DEPARTMENT OF THE INTERIOR

Bureau of Land Management

[MT-066-09-1610-DR-024E]

Notice of Availability of the Record of Decision for the Upper Missouri River Breaks National Monument Resource Management Plan and Environmental Impact Statement

AGENCY: Bureau of Land Management, Interior.

ACTION: Notice of Availability.

SUMMARY: The Bureau of Land Management (BLM) announces the availability of the Record of Decision (ROD) and Approved Resource Management Plan (RMP) for the Upper Missouri River Breaks National Monument located in the Lewistown Field Office, Montana. The Montana State Director signed the ROD, which constitutes the final decision of the BLM and makes the Approved RMP effective immediately.

ADDRESSES: Copies of the ROD and Approved RMP are available upon request from the Field Manager, Lewistown Field Office, Bureau of Land Management, 920 Northeast Main Street, P.O. Box 1160, Lewistown, MT 59457-1160 or via the internet at http://www.blm.gov/mt/st/en/fo/lewistown_field_office/um_rmp_process.html.

FOR FURTHER INFORMATION CONTACT: Jerry Majerus, Project Manager, Bureau of Land Management, 920 Northeast Main Street, P.O. Box 1160, Lewistown, MT 59457; or by telephone at (406) 538-1924.

SUPPLEMENTARY INFORMATION: The Upper Missouri River Breaks National Monument is located in northcentral Montana in Blaine, Chouteau, Fergus, and Phillips Counties. The planning area addressed in the Approved RMP comprises about 375,000 acres of public land and about 396,000 acres of federal minerals administered by the BLM Lewistown Field Office. The State of Montana and Blaine, Chouteau, Fergus, and Phillips Counties participated in development of the plan as cooperating agencies. The RMP addressed the following six major questions: (1) How will human activities and uses be managed? (2) What facilities and infrastructure are appropriate to provide visitor interpretation and administration of the Monument? (3) How will the BLM manage resource uses and protect the biological, historical, cultural, and visual values of the Monument? (4) How will Monument management be integrated with other agency and community plans? (5) How will transportation and access be managed? (6) How will Monument management affect economic and social conditions in the area?

The Approved RMP was prepared under the authorities of the Federal Land Policy and Management Act (FLPMA) of 1976 and the National Environmental Policy Act (NEPA) of 1969. The Approved RMP is nearly identical to the Proposed Plan (Alternative F) presented in the 2008 Proposed RMP/Final EIS. All decisions covered by the ROD are either land use planning decisions that were protestable under the planning regulations (43 CFR part 1610), or implementation decisions that are now appealable under the regulations discussed below.

The BLM received 45 protest letters during the 30-day protest period provided for the Proposed RMP/Final EIS in accordance with 43 CFR 1610.5-2. In response to the protests, the BLM Director decided to prohibit the personal collection of invertebrate fossils, petrified wood, and plant material except that managers and staff shall facilitate access to public lands for the purposes of Native American religious and traditional uses, such as gathering natural resources (BLM Manual 8120—Tribal Consultation under Cultural Resources .06.D. The Director also clarified the decision to carry forward the Cow Creek ACEC designation, adopted by reference the new transportation management terminology in Washington Office IM 2006-173, and made a few other minor adjustments and corrections. All of these changes are identified in the Modifications and Clarifications section of the ROD.

The Governor of the State of Montana, in his letter dated March 31, 2008, recommended six changes to the plan but did not identify any inconsistencies between the Proposed RMP and officially approved or adopted state or local plans, policies, and/or programs. All of the recommendations were considered previously in the public process and development of the Proposed RMP.

The following decisions are subject to a separate appeals process: (1) All road designations; (2) all backcountry airstrip designations; (3) limiting the group to 20 boaters launching from Coal Banks or Judith Landing from June 15 to August 1; (4) the 2-night camping limit at Level 2 sites from June 15 to August 1, and (5) the motorized watercraft restrictions on the Upper Missouri National Wild and Scenic River. These decisions are implementation decisions and are appealable under 43 CFR part 4, subpart E. They are contained in the section Decisions Subject to a Separate Appeals Process of the ROD. Any party adversely affected by these five decisions may appeal within 30 days of publication of this Notice of Availability pursuant to 43 CFR, part 4, subpart E. The appeal should state the specific road, airstrip, and/or river segment, as identified in the Record of Decision and Approved RMP, on which the decision is being appealed. The appeal must be filed with the Lewistown Field Manager at the above listed address. Please consult the appropriate regulations (43 CFR, part 4, subpart E) for further appeal requirements.

Authority: 43 U.S.C. 1712; 42 U.S.C 4332.

Gene R. Terland,
Montana State Director.

[FR Doc. E9-228 Filed 1-8-09; 8:45 am]

BILLING CODE 4310-$$-P